DEPARTMENT OF COMMERCE

International Trade Administration

Notice of Request for Public Comment

AGENCY: International Trade Administration, Department of Commerce.

ACTION: Notice of request for public comment.

SUMMARY: The Department of Commerce's International Trade Administration is seeking industry's involvement in providing information to inform the work program of the recently established Trilateral Committee on Transborder Data Flows under the Security and Prosperity Partnership of North America (SPP). In advance of its inaugural stakeholders' forum, tentatively scheduled for September 2008, the Committee is soliciting assistance in identifying and analyzing impediments to transborder data flows that impact on commercial activities. The Committee, composed of government representatives of each of the three countries, will work in consultation with the business community to identify and address impediments to electronic information flows across borders that impact economic growth. The Committee will also look at regulatory uncertainties related to the transborder flow of data and analyze the impact that they are having on the marketplace. The objective is to foster an integrated approach to information flows in North America while supporting regulatory cooperation to remove barriers to electronic information flows. Specifically, the Department is seeking: (1) A description of your company's activities. (2) How your company's activities involve cross-border data transfers and computerized information flows. (3) Impediments to cross-border data transfers and information flows. Impediments include legislative and regulatory requirements and other barriers. (4) Implications and costs for the company of these impediments (trade and investment). Business proprietary information should be marked accordingly.

Once this process has been completed, the Committee will make recommendations to Ministers responsible for SPP on how to solve identified impediments to such information flows.

DATES: August 18, 2008.

ADDRESSES: Input on the Committee's work program or inquiries about participation in the forum should be addressed to the contact below, and received by close of business on Monday, August 18, 2008.

FOR FURTHER INFORMATION CONTACT: Joshua Harris, U.S. Department of Commerce, Office of Technology and Electronic Commerce, 1401 Constitution Avenue, NW., Room 2003, Washington, DC 20230; Telephone: 202-482-0142; e-mail: joshua.harris@mail.doc.gov.

SUPPLEMENTARY INFORMATION: The SPP was launched in March of 2005 to increase security and enhance prosperity among the United States, Canada and Mexico through greater cooperation and information sharing. Consistent with those goals, and to serve as a catalyst for the development of electronic commerce and online business in North America, officials from Industry Canada, Mexico's Ministry of the Economy, and the United States Department of Commerce recently signed the Statement on the Free Flow of Information and Trade in North America (http://spp.gov/pdf/Eng_Statement_of_Free_Flow.pdf), which formally established the Trilateral Committee. The Statement was announced at the SPP Leaders meeting April 21-22 in New Orleans.

Dated: July 2, 2008.
Robin Layton,
Director, Office of Technology and Electronic Commerce.

[FR Doc. E8-15626 Filed 7-9-08; 8:45 am]

BILLING CODE 3510-DR-P